STATE JUSTICE INSTITUTE

Sunshine Act Meetings

DATE: Saturday, June 30, 2001—6 pm-7 pm—Ray's Waterfront Restaurant.

PLACE: Seward Small Boat Harbor, AK.

DATE: Sunday, July 1, 2001—9 am-5 pm; Monday, July 2, 2001—9 am-12 pm.

PLACE: Alyeska Hotel, Girdwood, AK

MATTERS TO BE CONSIDERED: Consideration of proposals submitted for Institute funding and internal Institute business.

PORTIONS OPEN TO THE PUBLIC: Consideration of proposals submitted for Institute funding and internal Institute business other than personnel matters.

PORTIONS CLOSED TO THE PUBLIC: Discussion of internal personnel matters.

CONTACT PERSON: David Tevelin, Executive Director, State Justice Institute, 1650 King Street, Suite 600, Alexandria, VA 22314, (703) 684-6100.

David I. Tevelin,
Executive Director.

[FR Doc. 01-13922 Filed 5-30-01; 1:22 pm]

BILLING CODE 6820-SC-M